DEPARTMENT OF AGRICULTURE

Forest Service

Information Collection; Request for Comments; Forest Products Removal Permits and Contracts

AGENCY: Forest Service, USDA.

ACTION: Notice.

SUMMARY: In accordance with the Paperwork Reduction Act of 1995, the Forest Service is seeking comments from all interested individuals and organizations on the extension of an information collection associated with forest product removal permits and contracts. The collected information will help the Forest Service administer the use of forest products. Information will be collected from permittees for free use of forest products and from permittees and purchasers for purchase of forest products.

The collected information is necessary to ensure that: applicants meet the requirements of the forest products program; permittees obtaining free use of forest products qualify for the free-use program; applicants purchasing permits non-competitively to harvest forest products do not exceed the authorized limit in a fiscal year; and, permittees can be identified in the field by Forest Service compliance personnel.

DATES: Comments must be received in writing on or before May 16, 2005 to be assured of consideration. Comments received after that date will be considered to the extent practicable.

ADDRESSES: Comments concerning this notice should be addressed to Director, Forest Management, 1400 Independence Avenue, SW., Mail Stop 1103, Washington, DC 20250-0003.

Comments also may be submitted via facsimile to (202) 205-1045 or by e-mail to: forest_products_forms@fs.fed.us. In addition, comments may be submitted via the World Wide Web/Internet Web site at: http://www.regulations.gov. All comments, including names and addresses when provided, are placed in the record and are available for public inspection and copying. The Forest Products Permits and Contract are available for public review on the Forest Service World Wide Web/Internet site at: http://www.fs.fed.us/forestmanagement/infocenter/index.shtml. Alternatively, these can be viewed in the Office of the Director, Forest Management, Third Floor, Southwest Wing, Yates Building, 201 14th Street, SW., Washington, DC. Visitors are encouraged to call ahead on (202) 205-1496 to facilitate entry into the building.

FOR FURTHER INFORMATION CONTACT: Don Benner, Forest Management Staff, at (202) 205-0855, or Richard Fitzgerald, Forest Management Staff, at (202) 205-1753. Individuals who use telecommunication devices for the deaf (TDD) may call the Federal Information Relay Service (FIRS) at 1-800-877-8339 twenty-four hours a day, every day of the year, including holidays.

SUPPLEMENTARY INFORMATION: Title: Forest Product Removal Permits and Contracts.

OMB Number: 0596-0085.

Expiration Date of Approval: March 31, 2005.

Type of Request: Extension with minor revision.

Abstract: Under 16 U.S.C. 551, individuals and other Federal agencies planning to remove forest products from the National Forests must obtain a permit. To obtain a permit, applicants must meet the criteria at 36 CFR 223.1, 223.2, and 223.5 through 223.13 under which free use or sale of timber or forest products is authorized. Upon receiving a permit, the permittee must comply with the terms of the permit at 36 CFR 261.6 that designate the forest products that can be harvested and under what conditions, such as limiting harvest to a designated area or permitting harvest of only specifically designated material.

When applying for forest products removal permits, applicants, depending on what timber or forest products they intend to remove, must answer questions on one of the following permits:

• Contract FS-2400-4, Forest Products Contract and Cash Receipt, is used to sell timber products, such as sawtimber, or forest products, such as fuelwood.

• Permit FS-2400-8, Forest Products Free Use Permit, is used to allow free use of timber or forest products (36 CFR 223.5 through 223.13).

• Permit FS-2400-1, Forest Products Removal Permit and Cash Receipt, is used to sell timber or forest products such as fuelwood, Christmas trees or pine cones (36 CFR 223.1 and 223.2).

Each permit and contract implements different regulations and has different provisions for compliance, but each permit and contract collect similar information from the applicant for related purposes.

The Forest Service will use the information collected: To ensure that permittees obtaining free use of timber or forest products qualify for the free-use program and do not receive product value in excess of the $20 amount that District Rangers or $100 amount that Forest Supervisors are authorized to approve in a fiscal year (36 CFR 223.8); to ensure that applicants purchasing permits non-competitively to harvest timber or forest products do not exceed the authorized $10,000 limit in a fiscal year (16 U.S.C. 472(a)); and, to ensure that permittees can be identified in the field by Forest Service compliance personnel.

An applicant is not restricted to one permit or contract. An applicant may apply for as many forest products permits or contracts as necessary to meet their needs. For example, an applicant may obtain free use of a timber product, such as pine cones, using Permit 2400-8, Forest Products Free Use Permit, and still purchase fuelwood using Contract 2400-4, Forest Products Contract and Cash Receipt.

Individuals and persons representing small businesses usually request each permit and contract in person at the Forest Service office issuing the permit. Forest Service personnel ask applicants to respond to questions that include their name, address, and identification number. The identification number can be a tax identification number, social security number, drivers license number, or other unique number identifying the applicant. Forest Service personnel enter the information into a computerized database for easier retrieval upon subsequent requests for a forest products permit or contract by the same individual. The information is also printed onto a paper copy of a permit or contract. The applicant signs and dates the paper permit or contract. Forest Service personnel discuss the terms and conditions of the permit or contract with the applicant. Permittees may be required to maintain a forest product removal record on the permit.

Data gathered in this information collection are not available from other sources. The agency uses the collected data to ensure that applicants for free use meet the criteria for free use of timber or forest products authorized by regulations at 36 CFR 223.5 through 223.13, that applicants seeking to purchase and remove timber or forest products from National Forest System lands meet the criteria under which sale of timber or forest products is authorized by the regulations at 36 CFR 223.80, and to ensure that permittees comply with regulations and terms of the permit at 36 CFR 261.6.

Estimate of Annual Burden:

Permit 2400-1: 4.5 minutes.

Permit 2400-8: 4.5 minutes.

Contract 2400-4: 5.5 minutes.

Type of Respondents:

Permit 2400-1: Individuals and small businesses.

Permit 2400-8: Individuals.

Contract 2400-4: Individuals and small businesses.

Estimated Annual Number of Respondents:

Permit 2400-1: 150,000.

Permit 2400-8: 25,000.

Permit 2400-4: 1,000.

Estimated Annual Number of Responses per Respondent:

Permit 2400-1: 4.

Permit 2400-8: 4.

Contract 2400-4: 5.

Estimated Total Annual Burden on Respondents:

Permit 2400-1: 12,000 hours.

Permit 2400-8: 2,000 hours.

Permit 2400-4: 100 hours.

Comment is invited on: (a) Whether the proposed collection of information is necessary for the stated purposes and the proper performance of the functions of the agency, including whether the information will have practical or scientific utility; (b) the accuracy of the agency's estimate of the burden of the proposed collection of information, including the validity of the methodology and assumptions used; (c) ways to enhance the quality, utility, and clarity of the information to be collected; and (d) ways to minimize the burden of the collection of information on respondents, including the use of automated, electronic, mechanical, or other technological collection techniques or other forms of information technology.

All comments received in response to this notice, including names and addresses when provided, will become a matter of public record. Comments will be summarized and included in the request for Office of Management and Budget approval.

Dated: March 10, 2005.
Fredrick L. Norbury,
Associate Deputy for National Forest System.

[FR Doc. 05-5213 Filed 3-15-05; 8:45 am]

BILLING CODE 3410-11-P